DEPARTMENT OF THE INTERIOR

Bureau of Indian Affairs

[201A2100DD/AAKC001030/A0A501010.999900 253G; OMB Control Number 1076-0180]

Agency Information Collection Activities; Leasing of Osage Reservation Lands for Oil and Gas Mining

AGENCY: Bureau of Indian Affairs, Interior.

ACTION: Notice of information collection; request for comment.

SUMMARY: In accordance with the Paperwork Reduction Act of 1995, we, Bureau of Indian Affairs (BIA) are proposing to renew an information collection.

DATES: Interested persons are invited to submit comments on or before December 30, 2019.

ADDRESSES: Send your comments on this information collection request (ICR) to Ms. Robin Phillips, Osage Agency, P.O. Box 1539, Pawhuska, OK 74056, or by email to robin.phillips@bia.gov. Please reference OMB Control Number 1076-0180 in the subject line of your comments.

FOR FURTHER INFORMATION CONTACT: To request additional information about this ICR, contact Mr. Richard Winlock, Deputy Superintendent, Osage Agency, by email at richard.winlock@bia.gov or by telephone at (918) 287-5700.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BIA; (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: In 1906, Congress passed “An Act for the division of the lands and funds of the Osage Indians in Oklahoma Territory, and for other purposes,” providing for the allotment of the Osage Nation's lands. See Act of June 28, 1906, Public Law 59-321, 34 Stat. 539, as amended (1906 Act). Section 3 of the 1906 Act severed the surface estate from the subsurface mineral estate (Osage Mineral Estate), reserving all oil, gas, coal, and other minerals to the Osage Nation. In accordance with the 1906 Act, the Osage Mineral Estate is held in trust by the United States for the benefit of the Osage Nation.

The 1906 Act authorizes the Osage Nation to lease the Osage Mineral Estate for oil and gas mining, subject to the approval of the Secretary of the Interior and under such rules and regulations as he may prescribe. The regulations governing leasing of the Osage Mineral Estate for oil and gas mining are set forth in 25 CFR part 226. The information collections in 25 CFR part 226 specify what information lessees, operators, and others must provide to BIA regarding oil and gas leasing, exploration, development operations, and production. These information collections are necessary in order for BIA to administer leasing and development of the Osage Mineral Estate, collect and account for royalty revenues, and ensure the protection of resource values.

Title of Collection: Leasing of Osage Reservation lands for Oil and Gas Mining.

OMB Control Number: 1076-0180.

Form Number: N/A.

Type of Review: Renewal of a currently approved collection.

Respondents/Affected Public: Businesses, Tribal government.

Total Estimated Number of Annual Respondents: 965.

Total Estimated Number of Annual Responses: 14,436.

Estimated Completion Time per Response: Varies from 15 minutes to eight hours.

Total Estimated Number of Annual Burden Hours: 21,954.

Respondent's Obligation: Required to Obtain a Benefit.

Frequency of Collection: Varies from yearly to monthly.

Total Estimated Annual Nonhour Burden Cost: $496.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2019-23765 Filed 10-30-19; 8:45 am]

BILLING CODE 4337-15-P